DEPARTMENT OF AGRICULTURE

Office of the Secretary

7 CFR Part 2

RIN 0503-AA78

Delegations of Authority

AGENCY: Office of the Secretary, USDA.

ACTION: Final rule.

SUMMARY: This document revises the delegations of authority from the Secretary of Agriculture and general officers of the U.S. Department of Agriculture (USDA) to reflect changes and additions to the delegations as summarized below.

DATES: Effective October 12, 2023.

FOR FURTHER INFORMATION CONTACT: Melissa McClellan, Office of the General Counsel, (202) 720-5565, melissa.mcclellan@usda.gov.

SUPPLEMENTARY INFORMATION:

Overview of Changes

This rule amends the delegations of authority in 7 CFR part 2 to reflect changes to the organizational structure of the Office of Partnerships and Public Engagement (OPPE). This includes removing the delegations of authority by the Director, OPPE to the Director, Office of Advocacy and Outreach (OAO) at section 2.700, as OAO is no longer a separate entity within OPPE. In addition, this rule reflects the transfer of oversight of the 1994 Tribal Scholars Program from the Director of OPPE (section 2.38) to the Director of the Office of Tribal Relations (section 2.39) and the transfer of oversight of the Centers for Faith Based and Neighborhood Partnerships from the Director of OPPE to the Assistant Secretary for Congressional Relations (section 2.23).

This rule also amends the delegations of authority to reflect the transfer of responsibility for USDA's Controlled Unclassified Information Program from the Assistant Secretary for Administration (section 2.24) and the Executive Director of the Office of Homeland Security (section 2.95) to the Chief Information Officer (section 2.32). See Secretary's Memorandum 1077-006 (Nov. 2, 2022), available at https://www.usda.gov/directives/sm-1077-006.

Finally, this rule amends the delegations to the Under Secretary for Natural Resources and Environment (section 2.16) and the Chief of the Forest Service (section 2.60) to authorize the Forest Service's Law Enforcement and Investigations staff to enforce and investigate violations of the Lacey Act, 16 U.S.C. 3371-3378, involving timber and timber products. These delegations do not affect the existing delegations of authority under the Lacey Act to the Under Secretary for Marketing and Regulatory Programs and the Administrator of the Animal and Plant Health Inspection Service.

Classification

This rule relates to internal agency management. Accordingly, pursuant to 5 U.S.C. 553, notice of proposed rulemaking and opportunity for comment are not required, and this rule may be made effective less than 30 days after publication in the Federal Register. This rule also is exempt from the provisions of Executive Orders 12866 and 13771. This action is not a rule as defined by the Regulatory Flexibility Act, as amended by the Small Business Regulatory Enforcement Fairness Act of 1996, 5 U.S.C. 601 et seq., or the Congressional Review Act, 5 U.S.C. 801 et seq., and thus is exempt from the provisions of those acts. This rule contains no information collection or recordkeeping requirements under the Paperwork Reduction Act of 1995 (44 U.S.C. 3501 et seq.).

List of Subjects in 7 CFR Part 2

Authority delegations (Government agencies).

Accordingly, as discussed in the preamble, 7 CFR part 2 is amended as follows:

PART 2—DELEGATIONS OF AUTHORITY BY THE SECRETARY OF AGRICULTURE AND GENERAL OFFICERS OF THE DEPARTMENT

1. The authority citation for part 2 continues to read as follows:

Authority: 7 U.S.C. 6912(a)(1); 5 U.S.C. 301; Reorganization Plan No. 2 of 1953, 3 CFR 1949-1953 Comp., p. 1024.

Subpart C—Delegations of Authority to the Deputy Secretary, Under Secretaries, and Assistant Secretaries

2. Amend § 2.20 by adding paragraph (a)(2)(xliii) to read as follows:

§ 2.20 Under Secretary for Natural Resources and Environment.

(a) * * *

(2) * * *

(xliii) Enforce and conduct investigations of violations of the Lacey Act, which prohibits importing or exporting any plant or plant product in interstate or foreign commerce in violation of any Federal, State, Tribal, or foreign law regulating plants or plant products (16 U.S.C. 3371-3378).

* * * * *

3. Amend § 2.23 by adding paragraph (a)(2)(v) to read as follows:

§ 2.23 Assistant Secretary for Congressional Relations.

(a) * * *

(2) * * *

(v) Oversee the Center for Faith Based and Neighborhood Partnerships.

* * * * *

§ 2.24 [Amended]

4. Amend § 2.24 by removing and reserving paragraph (a)(8)(xi).

Subpart D—Delegations of Authority to Other General Officers and Agency Heads

5. Amend § 2.32 by adding paragraph (a)(14) to read as follows:

§ 2.32 Chief Information Officer.

(a) * * *

(14) Administer the Controlled Unclassified Information (CUI) Program for the Department pursuant to E.O. 13556, “Controlled Unclassified Information” (75 FR 68675, 3 CFR, 2011 Comp., p. 267) and 32 CFR part 2002.

* * * * *

§ 2.38 [Amended]

6. Amend § 2.38 by removing and reserving paragraphs (a)(1)(xii) and (a)(4).

7. Amend § 2.39 by adding paragraph (a)(9) to read as follows:

§ 2.39 Director, Office of Tribal Relations.

(a) * * *

(9) Administer the USDA/1994 Land Grant Institutions (Tribal Colleges) Programs.

* * * * *

Subpart J—Delegations of Authority by the Under Secretary for Natural Resources and Environment

8. Amend § 2.60 by adding paragraph (a)(45) to read as follows:

§ 2.60 Chief, Forest Service.

(a) * * *

(45) Enforce and conduct investigations of violations of the Lacey Act, which prohibits importing or exporting any plant or plant product in interstate or foreign commerce in violation of any federal, state, Tribal, or foreign law regulating plants or plant products (16 U.S.C. 3371-3378).

* * * * *

Subpart P—Delegations of Authority by the Assistant Secretary for Administration

§ 2.95 [Amended]

9. Amend § 2.95 by removing and reserving paragraph (b)(11).

Subpart V—Delegations of Authority by the Director, Office of Partnerships and Public Engagement

§ 2.700 [Removed and Reserved]

10. Remove and reserve § 2.700.

The Secretary of Agriculture, Thomas J. Vilsack, having reviewed and approved this document, is delegating the authority to electronically sign this document to Mary Beth Schultz, Acting General Counsel, for purposes of publication in the Federal Register.

Mary Beth Schultz,
Acting General Counsel.

[FR Doc. 2023-22524 Filed 10-11-23; 8:45 am]

BILLING CODE 3410-90-P